DEPARTMENT OF THE INTERIOR

Bureau of Indian Affairs

[167 A2100DD/AAKC001030/A0A501010.999900]

Draft Environmental Impact Statement for the Proposed Wilton Rancheria Fee-to-Trust and Casino Project, Sacramento County, California

AGENCY: Bureau of Indian Affairs, Interior.

ACTION: Notice of Availability.

SUMMARY: This notice advises the public that the Bureau of Indian Affairs (BIA) as lead agency, with the Wilton Rancheria (Tribe), City of Galt (City), Sacramento County (County), and the United States Environmental Protection Agency (EPA) serving as cooperating agencies, intends to file a Draft Environmental Impact Statement (DEIS) with the EPA for the Wilton Rancheria fee-to-trust and casino project, Sacramento County, California. This notice announces that the DEIS is now available for public review and that a public hearing will be held to receive comments on the DEIS.

DATES: Comments on the DEIS must arrive by February 12, 2016. The date of the public hearing will be announced at least 15 days in advance through a notice to be published in local newspapers (Galt Herald and Sacramento Bee) and online at http://www.wiltoneis.com.

ADDRESSES: The DEIS is available for public review at the Galt Branch of the Sacramento Public Library, 1000 Caroline Ave., Galt, California 95632. You may mail or hand-deliver written comments to Ms. Amy Dutschke, Pacific Regional Director, Bureau of Indian Affairs, 2800 Cottage Way, Sacramento, California 95825. You may also submit comments through email to Mr. John Rydzik, Chief, Division of Environmental, Cultural Resource Management and Safety, Bureau of Indian Affairs, at john.rydzik@bia.gov.

The location of the public hearing will be announced at least 15 days in advance through a notice to be published in local newspapers (Galt Herald and Sacramento Bee) and online at http://www.wiltoneis.com.

FOR FURTHER INFORMATION CONTACT: Ms. John Rydzik, Bureau of Indian Affairs, Pacific Regional Office, 2800 Cottage Way, Sacramento, California 95825, (916) 978-6051, john.rydzik@bia.gov. Information is also available online at http://www.wiltoneis.com.

SUPPLEMENTARY INFORMATION: Public review of the DEIS is part of the administrative process for the evaluation of the Tribe's application to BIA for the Federal trust acquisition of approximately 282 acres in Sacramento County, California. The Tribe proposes to construct a casino/hotel/resort on the property. A Notice of Intent (NOI) was published in the Sacramento Bee, the Galt Herald, and Federal Register on December 4, 2013. The BIA held a public scoping meeting for the project on December 19, 2013, at the Chabolla Community Center in Galt, California. Pursuant to Council on Environmental Quality (CEQ) National Environmental Policy Act (NEPA) regulations (40 CFR 1506.10), the publication of this Notice of Availability in the Federal Register initiates a 45-day public comment period on the DEIS.

Background

The Tribe has requested that BIA take into trust 282 acres of land (known as the Twin Cities site) currently held in fee, on which the Tribe proposed to construct a casino, hotel, parking area, and other ancillary facilities (Proposed Project). The proposed fee-to-trust property is located within the City of Galt Sphere of Influence Area in unincorporated Sacramento County, California, north of Twin Cities Road between State Highway 99 and the Union Pacific Railroad tracks. The Proposed Project would contain 110,260 square-feet (sf) of gaming floor area, a 12-story hotel with 302 guest rooms, a 360-seat buffet, 60-seat pool grill, other food and beverage providers, a 2,600 sf retail area, a fitness center, spa, and an approximately 48,000 sf convention center. Access to the Twin Cities site would be provided via an improved Mingo Road interchange on Highway 99. The following alternatives are considered in the DEIS:

Alternative A—Proposed Twin Cities Casino Resort

Alternative B—Reduced Twin Cities Casino

Alternative C—Retail on the Twin Cities Site

Alternative D—Casino Resort at Historic Rancheria Site

Alternative E—Reduced Intensity Casino at Historic Rancheria Site

Alternative F—Casino Resort at Mall Site

Alternative G—No Action

Environmental issues addressed in the DEIS include geology and soils, water resources, air quality, biological resources, cultural and paleontological resources, socioeconomic conditions (including environmental justice), transportation and circulation, land use, public services, noise, hazardous materials, aesthetics, cumulative effects, and indirect and growth inducing effects.

Directions for Submitting Comments: Please include your name, return address, and the caption: “DEIS Comments, Wilton Rancheria Fee-to-Trust and Casino Project,” on the first page of your written comments. If emailing comments, please use “DEIS Comments, Wilton Rancheria Fee-to-Trust and Casino Project” as the subject of your email.

Locations where the DEIS is Available for Review: The DEIS is available for review during regular business hours at the BIA Pacific Regional Office and the Galt Branch of the Sacramento Public Library at the addresses noted above in the ADDRESSES section of this notice. The DEIS is also available online at http://www.wiltoneis.com. To obtain a compact disc copy of the DEIS, please provide your name and address in writing or by voicemail to Mr. John Rydzik, Bureau of Indian Affairs, at the address or phone number above in the FOR FURTHER INFORMATION CONTACT section of this notice. Individual paper copies of the DEIS will be provided upon payment of applicable printing expenses by the requestor for the number of copies requested.

Public Comment Availability: Comments, including names and addresses of respondents, will be available for public review during regular business hours at the BIA mailing address shown in the ADDRESSES section of this notice. Before including your address, telephone number, email address, or other personal identifying information in your comment, you should be aware that your entire comment—including your personal identifying information—may be made publicly available at any time. While you may ask us in your comment to withhold your personal identifying information from public review, we cannot guarantee that we will be able to do so.

Authority: This notice is published pursuant to Sec. 1503.1 of the Council of Environmental Quality Regulations (40 CFR parts 1500 through 1508) and Sec. 46.305 of the Department of the Interior Regulations (43 CFR part 46), implementing the procedural requirements of the NEPA of l969, as amended (42 U.S.C. 4371, et seq.), and is in the exercise of authority delegated to the Assistant Secretary—Indian Affairs by 209 DM 8.

Dated: December 18, 2015.
Kevin K. Washburn,
Assistant Secretary—Indian Affairs.

[FR Doc. 2015-32739 Filed 12-28-15; 8:45 am]

BILLING CODE 4337-15-P